DEPARTMENT OF HEALTH AND HUMAN SERVICES

Centers for Medicare and Medicaid Services

[Document Identifier: CMS-R-209 and CMS-R-245]

Emergency Clearance: Public Information Collection Requirements Submitted to the Office of Management and Budget (OMB)

AGENCY: Centers for Medicare and Medicaid Services.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an Administration initiative. We cannot reasonably comply with the normal clearance procedures because of the potential for public harm.

CMS is requesting OMB review and approval of this collection by December 6, 2002, with a 180-day approval period. Written comments and recommendations will be accepted from the public if received by the individuals designated below by December 5, 2002. During this 180-day period, we will publish a separate Federal Register notice announcing the initiation of an extensive 60-day agency review and public comment period on these requirements. We will submit the requirements for OMB review and an extension of this emergency approval.

Reducing regulatory burden is one of the overarching goals of this Administration. Secretary Thompson convened an Advisory Committee on Regulatory Reform earlier this year to help guide HHS' broader efforts to streamline unnecessarily burdensome or inefficient regulations that interfere with the quality of health care. CMS worked with the recommendations from Secretary Thompson's Advisory Committee on Regulatory Reform to draft proposed changes to the OASIS. The Secretary announced these changes earlier and reported the reduced burden OASIS would be in place by December 16, 2002.

CMS is proposing immediate modifications to the OASIS instrument that will result in reduction of burden for providers that will have the effect of freeing home health nurses and therapists from paperwork so they can focus on patient care. To reduce the burden, we need to make significant adjustments as quickly as possible. Our rollout date is December 9, 2002, to become effective a week later on December 16, 2002. CMS is working closely with the HHA industry to accomplish this initiative. The revisions we are proposing in this Paperwork Reduction Act (PRA) package were also published in the Federal Register on August 30, 2002 (67 FR 55850). We have responded to the dozen comments from the Federal Register notice.

(1) Type of Information Collection Request: Extension of a currently approved collection; Title of Information Collection: Medicare and Medicaid Programs; Use and Reporting OASIS Data as Part of the CoPs for HHAs and Supporting Regulations in 42 CFR 484.11 and 484.20; Form No.: CMS-R-209 (OMB # 0938-0761); Use: HHAs are required to report data from the OASIS as a condition of participation. Specifically, the above named regulations sections provide guidelines for HHAs for the electronic transmission of the OASIS data as well as responsibilities of the State agency or OASIS contractor in collecting and transmitting this information to HCFA. These requirements are necessary to achieve broad-based, measurable improvement in the quality of care furnished through Federal programs, and to establish a prospective payment system for HHAs; Frequency: Reporting/monthly; Affected Public: Business or other-for-profit, Federal government, State, local or tribal government, not-for-profit institutions; Number of Respondents: 6,900; Total Annual Responses: 85,200; Total Annual Hours: 838,408.

(2) Type of Information Collection Request: Extension of a currently approved collection; Title of Information Collection: Medicare and Medicaid Programs Use of the OASIS as Part of the CoPs for HHAs and Supporting Regulations in Part 484 of 42 CFR; Form No.: CMS-R-245 (OMB # 0938-0760); Use: This regulation requires HHAs to use a standard core assessment data set, the OASIS, to collect information and to evaluate adult non-maternity patients. In addition, data from the OASIS will be used for purposes of case mix adjusting patients under home health PPS and will facilitate the production of necessary case mix information at relevant time points in the patient's home heath stay. Modifications have been made to currently approved OASIS forms to allow for the preservation of masking of personally identifiable information for the non-Medicare/non-Medicaid individuals; Frequency: Recordkeeping/upon patient assessment; Affected Public: Business or other-for-profit, Federal government, State, local or tribal government, not-for-profit institutions; Number of Respondents: 7,100; Total Annual Responses: 9,510,900; Total Annual Hours: 8,013,013.

We have submitted a copy of this notice to OMB for its review of these information collections. A notice will be published in the Federal Register when approval is obtained.

To obtain copies of the supporting statement and any related forms for the proposed paperwork collections referenced above, access CMS's Web Site address at http://cms.hhs.gov/regulations/pra/default.asp, or E-mail your request, including your address, phone number, OMB number, and CMS document identifier, to Paperwork@hcfa.gov, or call the Reports Clearance Office on (410) 786-1326. Interested persons are invited to send comments regarding the burden or any other aspect of these collections of information requirements. However, as noted above, comments on these information collection and recordkeeping requirements must be mailed and/or faxed to the designees referenced below, by December 5, 2002:

CMS, Office of Strategic Operations and Regulatory Affairs, Division of Regulations Development and Issuances, Attention: Dawn Willinghan, Room N2-14-26, 7500 Security Boulevard, Baltimore, Maryland 21244-1850, and

Office of Information and Regulatory Affairs, Office of Management and Budget, Room 10235, New Executive Office Building, Washington, DC 20503, Fax Number: (202) 395-6974 or (202) 395-5167, Attn: Brenda Aguilar, CMS Desk Officer.

Dated: November 27, 2002.
Julie E. Brown,
Acting Paperwork Reduction Act Team Leader, CMS Reports Clearance Officer, Office of Strategic Operations and Strategic Affairs, Division of Regulations Development and Issuances.

[FR Doc. 02-30786 Filed 12-3-02; 8:45 am]

BILLING CODE 4120-03-P